DEPARTMENT OF HOMELAND SECURITY

U.S. Customs and Border Protection

Automated Commercial Environment (ACE) Export Manifest for Rail Cargo Test: Renewal of Test

AGENCY: U.S. Customs and Border Protection; Department of Homeland Security.

ACTION: General notice.

SUMMARY: This notice announces that U.S. Customs and Border Protection (CBP) is renewing the Automated Commercial Environment (ACE) Export Manifest for Rail Cargo Test, a National Customs Automation Program (NCAP) test concerning ACE export manifest capability.

DATES: The voluntary pilot initially began on September 9, 2015, and it was modified and extended on August 14, 2017. The renewed test will run for an additional two years from the date of publication of this notice in the Federal Register.

ADDRESSES: Applications for new participants in the ACE Export Manifest for Rail Cargo Test must be submitted via email to CBP Export Manifest at cbpexportmanifest@cbp.dhs.gov. In the subject line of the email, please write “ACE Export Manifest for Rail Cargo Test Application”. Applications will be accepted at any time during the test period. Written comments concerning program, policy, and technical issues may also be submitted via email to CBP Export Manifest at cbpexportmanifest@cbp.dhs.gov. In the subject line of the email, please write “Comment on ACE Export Manifest for Rail Cargo Test”. Comments may be submitted at any time during the test period.

FOR FURTHER INFORMATION CONTACT: Brian Semeraro, Branch Chief, or David Garcia, Program Manager, Outbound Enforcement and Policy Branch, Office of Field Operations, CBP, via email at cbpexportmanifest@cbp.dhs.gov, or by telephone, 202-325-3277.

SUPPLEMENTARY INFORMATION:

I. Background

The Automated Commercial Environment (ACE) Export Manifest for Rail Cargo Test is a voluntary test in which participants agree to submit export manifest data to U.S. Customs and Border Protection (CBP) electronically at least two hours prior to loading of the cargo onto the rail car, in preparation for departure from the United States or, for empty rail cars, upon assembly of the train. The ACE Export Manifest for Rail Cargo Test is authorized under § 101.9(b) of title 19 of the Code of Federal Regulations (19 CFR 101.9(b)), which provides for the testing of National Customs Automation Program (NCAP) programs or procedures.

The ACE Export Manifest for Rail Cargo Test examines the functionality of filing export manifest data for rail cargo electronically in ACE. ACE creates a single automated export processing platform for certain export manifest, commodity, licensing, export control, and export targeting transactions. This will reduce costs for CBP, partner government agencies, and the trade community, as well as improve facilitation of export shipments through the supply chain.

The ACE Export Manifest for Rail Cargo Test also assesses the feasibility of requiring the manifest information to be filed electronically in ACE within a specified time before the cargo is loaded on the train. This capability will enhance CBP's ability to calculate the risk and effectively identify and inspect shipments prior to the loading of cargo in order to facilitate compliance with U.S. export laws.

CBP announced the procedures and criteria related to participation in the ACE Export Manifest for Rail Cargo Test in a notice published in the Federal Register on September 9, 2015 (80 FR 54305). This test was originally scheduled to run for approximately two years. On August 14, 2017, CBP extended the test period (82 FR 37893). At that time, CBP also modified the original notice to make certain data elements optional and opened the test to accept additional applications for all parties who met the eligibility requirements. Through this notice, CBP is renewing the test.

The data elements, unless noted otherwise, are mandatory. Data elements which are mandatory must be provided to CBP for every shipment. Data elements which are marked “conditional” must be provided to CBP only if the particular information pertains to the cargo. Data elements which are marked “optional” may be provided to CBP but are not required to be completed. The data elements are set forth below:

(1) Mode of Transportation (containerized rail cargo or noncontainerized rail cargo) (optional)

(2) Port of Departure from the United States

(3) Date of Departure

(4) Manifest Number

(5) Train Number

(6) Rail Car Order

(7) Car Locator Message

(8) Hazmat Indicator (Yes/No)

(9) 6-character Hazmat Code (conditional) (If the hazmat indicator is yes, then UN (for United Nations Number) or NA (North American Number) and the corresponding 4-digit identification number assigned to the hazardous material must be provided.)

(10) Marks and Numbers (conditional)

(11) SCAC (Standard Carrier Alpha Code) for exporting carrier

(12) Shipper name and address (For empty rail cars, the shipper may be the railroad from which the rail carrier received the empty rail car to transport.)

(13) Consignee name and address (For empty rail cars, the consignee may be the railroad to which the rail carrier is transporting the empty rail car.)

(14) Place where the rail carrier takes possession of the cargo shipment or empty rail car (optional)

(15) Port of Unlading

(16) Country of Ultimate Destination (optional)

(17) Equipment Type Code (optional)

(18) Container Number(s) (for containerized shipments) or Rail Car Number(s) (for all other shipments)

(19) Empty Indicator (Yes/No)

If the empty indicator is no, then the following data elements must also be provided, unless otherwise noted:

(20) Bill of Lading Numbers (Master and House)

(21) Bill of Lading Type (Master, House, Simple or Sub)

(22) Number of house bills of lading (optional)

(23) Notify Party name and address (conditional)

(24) AES Internal Transaction Number or AES Exemption Statement (per shipment)

(25) Cargo Description

(26) Weight of Cargo (may be expressed in either pounds or kilograms)

(27) Quantity of Cargo and Unit of Measure

(28) Seal Number (only required if the container was sealed)

(29) Split Shipment Indicator (Yes/No) (optional)

(30) Portion of split shipment (e.g. 1 of 10, 4 of 10, 5 of 10, Final, etc.) (optional)

(31) In-bond Number (conditional)

(32) Mexican Pedimento Number (only for shipments for export to Mexico) (optional)

For further details on the background and procedures regarding this test, please refer to the September 9, 2015 notice and August 14, 2017 extension and modification.

II. Renewal of the ACE Export Manifest for Rail Cargo Test Period

CBP will renew the test for two years to continue evaluating the ACE Export Manifest for Rail Cargo Test. This will assist CBP in determining whether electronic submission of manifests will allow for improvements in the functionality and capabilities at the departure level. The renewed test will run for two years from the date of publication.

III. Applicability of Initial Test Notice

All provisions in the September 2015 notice and in the August 2017 modification and extension remain applicable, subject to the time period provided in this renewal.

IV. Paperwork Reduction Act

In accordance with the Paperwork Reduction Act of 1995 (Pub. L. 104-13, 44 U.S.C. 3507), an agency may not conduct, and a person is not required to respond to, a collection of information unless the collection of information displays a valid control number assigned by the Office of Management and Budget (OMB). The collections of information in this NCAP test have been approved by OMB in accordance with the requirements of the Paperwork Reduction Act and assigned OMB control number 1651-0001.

Pete Flores,
Executive Assistant Commissioner, Office of Field Operations, U.S. Customs and Border Protection.

[FR Doc. 2022-08954 Filed 4-26-22; 8:45 am]

BILLING CODE 9111-14-P